SMALL BUSINESS ADMINISTRATION

[Disaster Declaration #11411]

Florida Disaster Number FL-00036

AGENCY: U.S. Small Business Administration.

ACTION: Amendment 4.

SUMMARY: This is an amendment of the Presidential declaration of a major disaster for Public Assistance Only for the State of Florida (FEMA-1785-DR), dated 08/24/2008.

Incident: Tropical Storm Fay.

Incident Period: 08/18/2008 through 09/12/2008.

Effective Date: 09/12/2008.

Physical Loan Application Deadline Date: 10/23/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Florida, dated 08/24/2008, is hereby amended to establish the incident period for this disaster as beginning 08/18/2008 and continuing through 09/12/2008.

All other information in the original declaration remains unchanged.

(Catalog of Federal Domestic Assistance Number 59008)

James E. Rivera,
Acting Associate Administrator for Disaster Assistance.

[FR Doc. E8-22175 Filed 9-22-08; 8:45 am]

BILLING CODE 8025-01-P